DEPARTMENT OF DEFENSE

Defense Logistics Agency

Cost Sharing Cooperative Agreement Applications

AGENCY: Defense Logistics Agency (DLA).

ACTION: Notice of solicitation for cost sharing cooperative agreement applications.

SUMMARY: The Defense Logistics Agency (DLA) issued a solicitation for cooperative agreement applications (SCAA) to assist state and local governments and other nonprofit eligible entities in establishing or maintaining procurement technical assistance centers (PTACs). These centers help business firms market their goods and services to the Department of Defense (DoD), other federal agencies, and state and/or local government agencies. Notice of the issuance of this SCAA was published in the March 17, 1999 Federal Register (Volume 64, Number 51, page 13176). This solicitation governs the submission of applications for calendar years 1999, 2000, 2001, and 2002 and applies to all applications from all eligible entities, including Indian Economic Enterprises and Indian Tribal Organizations.

Pursuant to Section “I” paragraph “J” of the SCAA, notice is hereby given that limited additional funds are anticipated to be available in order to accept applications for additional new programs. However, applications will only be accepted from eligible entities that propose programs that will provide service to areas that are not currently receiving service from an existing program. This provision prohibiting applications from new programs proposing to service areas currently receiving service from an existing program is absolute, and the provisions of Section V, paragraph D. of the SCAA do not apply should a new applicant propose to service an area currently receiving service from an existing program. In addition, Section II of the SCAA is amended by changing the definition of a statewide program so as to prohibit more than one statewide program per state. Section V of the SCAA is amended to include situations where more than one applicant applies as a statewide program for an individual state, as an unacceptable duplicate coverage situation. Section VIII of the SCAA is amended by adding a new paragraph F. “LIMITATIONS” which limits the amount of DoD's funding for any option year to no more than that which was obligated for the base year award and the DoD percentage of total net program cost for any option year shall not be greater than DoD's percentage of total net program cost for the base year award. The March 15, 1999 SCAA is amended as follows; all applications submitted after March 10, 2000 and all PTAC awards made and options exercised after April 1, 2000 shall be governed by this amended version of the SCAA:

* * * * *

Section II

* * * * *

30. Statewide program. A PTA program that provides statewide coverage. There can be only one statewide program per state. In the event more than one applicant applies as a statewide program, the procedure in Section V, paragraph D. will be followed. For the purpose of the funding limitations appearing in Section I, paragraph F.3., PTA programs providing services to all the reservations within one of the twelve Bureau of Indian Affairs (BIA) Area Offices (which are Aberdeen, Albuquerque, Anadarko, Billings, Eastern, Juneau, Minneapolis, Muskogee, Navajo, Phoenix, Portland and Sacramento) and at least 50 per cent of the reservations of another BIA Area Office will be considered a statewide program.

* * * * *

Section V

D. Duplicate Coverage

Applications whose proposals produce a duplicate coverage situation will be reviewed by the GO to determine if the extent of duplicate coverage is acceptable or unacceptable. A duplicate coverage situation shall be deemed unacceptable if any of the following occur:

1. An applicant proposes to provide PTA services to more than 25 percent of the total number of counties that another applicant is proposing to service.

2. Two or more applicants cumulatively propose to provide PTA service to more than 25 percent of the total number of counties that another individual applicant proposes to service.

3. Two or more applicants apply as statewide programs servicing the same state.

Applicants that propose to provide service primarily to reservations (at least 75% of their total program cost will be dedicated to providing service to reservations) will not be considered to duplicate applicants that do not propose to provide service primarily to reservations, notwithstanding the areas either propose to service.

When the GO determines that an unacceptable duplicate coverage situation exists, only the applicant(s) determined to be most meritorious among those proposing the duplicate coverage situation using the selection procedures listed in Section VI will be considered for award.

* * * * *

Section VIII

* * * * *

F. Limitations

The total mount of DoD funding for any program in any option year shall not exceed the total amount obligated by DoD for the base year award. The percentage of DoD's share of total net program cost for any option year shall not be greater than the percentage of DoD's share of total net program cost for the base year award.

(end of SCAA revisions)

DATES: On line submissions of applications for new programs will be available on or about March 20, 2000. The closing date for the submission of applications is May 5, 2000.

The SCAA is currently available for review on the Internet Website: http://www.dla.mil/scaa

Printed copies are not available for distribution.

Eligible entities may only submit an application as outlined in Section IV of the SCAA. In order to comply with the electronic portion of the submission, applicants must obtain a log in account and password from DLA. To obtain these, applicants must furnish the Grants Officer written evidence that they meet the criteria of an eligible entity as set forth in paragraph 14 of Section II of the SCAA.

This information should be mailed or otherwise delivered to: HQ, Defense Logistics Agency, Small and Disadvantaged Business Utilization Office (DDAS Room 1127), 8725 John J. Kingman Road, Ft. Belvoir, VA 22060-6221.

FOR FURTHER INFORMATION CONTACT: If you have any questions or need additional information please contact Ms. Diana Maykowskyj at (703) 767-1656.

Anthony J. Kuders,
Deputy Director, Small and Disadvantaged Business Utilization.

[FR Doc. 00-6904 Filed 3-20-00; 8:45 am]

BILLING CODE 3620-01-M